DEPARTMENT OF COMMERCE

Foreign-Trade Zones Board

[Docket 25-2000]

Foreign-Trade Zone 158 Jackson, MS—Application for Subzone Status: Alliant Aerospace Composite Structures Company Plant (Space Launch Vehicle Composite Structures), Iuka, Mississippi

An application has been submitted to the Foreign-Trade Zones Board (the Board) by the Vicksburg/Jackson Foreign Trade Zone, Inc., grantee of FTZ 158, requesting special-purpose subzone status for the space launch vehicle composite structures manufacturing plant of Alliant Aerospace Composite Structures Company (Alliant), located in Iuka, Mississippi. The application was submitted pursuant to the provisions of the Foreign-Trade Zones Act, as amended (19 U.S.C. 81a-81u), and the regulations of the Board (15 CFR Part 400). It was formally filed on June 2, 2000.

The Alliant plant (20 acres/317,000 sq. ft.) is located at within the Tri State Commerce Park at 751 County Road 989, Iuka (Tishomingo County), Mississippi. The facility (200 employees) is used to produce composite foam structural components (thermal shield, center body, forward skirt, nose cone) for space launch vehicles (i.e., rockets) manufactured by U.S. aerospace firms. The production process involves heat forming polymethacrylimide (“Rohacell”) foam, machining, layering with carbon fiber and adhesives, pressurization/heat curing, and trimming. The only material input purchased from abroad that would be admitted to the proposed subzone in foreign status (19 CFR 146.42(a)) is polymethacrylimide foam—HTSUS# 3921.19.00; duty rate: 6.5% (representing 8% of finished product value).

FTZ procedures would exempt Alliant from Customs duty payments on the foreign polymethacrylimide foam used in export production. On its domestic sales, the company would be able to choose the duty rate that applies to finished composite structures (duty free) for the foreign foam input noted above. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is August 11, 2000. Rebuttal comments in response to material submitted during the foregoing period may be submitted during the subsequent 15-day period (to August 28, 2000).

A copy of the application and the accompanying exhibits will be available for public inspection at each of the following locations:

U.S. Department of Commerce Export Assistance Center, 704 East. Main Street, Raymond, MS 39154.

Office of the Executive Secretary, Foreign-Trade Zones Board, U.S. Department of Commerce, Room 4008, 14th Street & Constitution Avenue, NW, Washington, DC 20230-0001.

Dated: June 2, 2000.
Dennis Puccinelli,
Acting Executive Secretary.

[FR Doc. 00-14799 Filed 6-9-00; 8:45 am]

BILLING CODE 3510-DS-P